DEPARTMENT OF EDUCATION

Applications for New Awards; Investing in Innovation Fund—Scale-up Grants

AGENCY: Office of Innovation and Improvement, Department of Education.

ACTION: Notice.

SUMMARY:

Overview Information:

Investing in Innovation Fund—Scale-up grants.

Notice inviting applications for new awards for fiscal year (FY) 2015.

Catalog of Federal Domestic Assistance (CFDA) Number: 84.411A (Scale-up grants).

DATES:

Applications Available: June 8, 2015.

Deadline for Notice of Intent to Apply: June 25, 2015.

Deadline for Transmittal of Applications: August 4, 2015.

Deadline for Intergovernmental Review: October 5, 2015.

SUPPLEMENTARY INFORMATION:

Full Text of Announcement

I. Funding Opportunity Description

Purpose of Program: The Investing in Innovation Fund (i3), established under section 14007 of the American Recovery and Reinvestment Act of 2009 (ARRA), provides funding to support (1) local educational agencies (LEAs), and (2) nonprofit organizations in partnership with (a) one or more LEAs or (b) a consortium of schools. The i3 program is designed to generate and validate solutions to persistent educational challenges and to support the expansion of effective solutions to serve substantially larger numbers of students. The central design element of the i3 program is its multi-tier structure that links the amount of funding that an applicant may receive to the quality of the evidence supporting the efficacy of the proposed project. Applicants proposing practices supported by limited evidence can receive relatively small grants that support the development and initial evaluation of promising practices and help to identify new solutions to pressing challenges; applicants proposing practices supported by evidence from rigorous evaluations, such as large randomized controlled trials, can receive sizable grants to support expansion across the country. This structure provides incentives for applicants to build evidence of effectiveness of their proposed projects and to address the barriers to serving more students across schools, districts, and States.

As importantly, all i3 projects are required to generate additional evidence of effectiveness. All i3 grantees must use part of their budgets to conduct independent evaluations (as defined in this notice) of their projects. This ensures that projects funded under the i3 program contribute significantly to improving the information available to practitioners and policymakers about which practices work, for which types of students, and in what contexts.

The Department awards three types of grants under this program: “Development” grants, “Validation” grants, and “Scale-up” grants. These grants differ in terms of the level of prior evidence of effectiveness required for consideration of funding, the level of scale the funded project should reach, and, consequently, the amount of funding available to support the project.

This notice invites applications for Scale-up grants only. The notice inviting applications for Validation grants is published elsewhere in this issue of the Federal Register. The notice inviting applications for Development grants was published in the Federal Register on March 30, 2015 (80 FR 16648) and is available at http://www.gpo.gov/fdsys/pkg/FR-2015-03-30/pdf/2015-07213.pdf.

Scale-up grants provide funding to support expansion of projects supported by strong evidence of effectiveness (as defined in this notice) to the national level (as defined in this notice). In addition to improving outcomes for an increasing number of high-need students, Scale-up grants will generate information about the students and contexts for which a practice is most effective. We expect that Scale-up grants will increase practitioners' and policymakers' understanding of strategies that allow organizations or practices to expand quickly and efficiently while maintaining their effectiveness.

All Scale-up grantees must evaluate the effectiveness of the i3-supported practice that the project implements and expands. This is particularly important in instances in which the proposed project includes changing the i3-supported practice in order to more efficiently reach the proposed level of scale (for example, by developing technology-enabled training tools). The evaluation of a Scale-up grant must identify the core elements of, and codify, the i3-supported practice that the project implements in order to support adoption or replication by other entities. We also expect that evaluations of Scale-up grants will be conducted in a variety of contexts and for a variety of students in order to determine the context(s) and population(s) for which the i3-supported practice is most effective.

We remind LEAs of the continuing applicability of the provisions of the Individuals with Disabilities Education Act (IDEA) for students who may be served under i3 grants. Any grants in which LEAs participate must be consistent with the rights, protections, and processes established under IDEA for students who are receiving special education and related services or are in the process of being evaluated to determine their eligibility for such services.

As described later in this notice, in connection with making competitive grant awards, an applicant is required, as a condition of receiving assistance under this program, to make civil rights assurances, including an assurance that its program or activity will comply with Section 504 of the Rehabilitation Act of 1973, as amended and the Department's section 504 implementing regulations, which prohibit discrimination on the basis of disability. Regardless of whether a student with disabilities is specifically targeted as a “high-need student” (as defined in this notice) in a particular grant application, recipients are required to comply with all legal nondiscrimination requirements, including, but not limited to the obligation to ensure that students with disabilities are not denied access to the benefits of the recipient's program because of their disability. The Department also enforces Title II of the Americans with Disabilities Act (ADA), as well as the regulations implementing Title II of the ADA, which prohibit discrimination on the basis of disability by public entities.

Title VI of the Civil Rights Act of 1964 prohibits discrimination on the basis of race, color and national origin. Title IX of the Education Amendments of 1972 prohibits discrimination on the basis of sex. On December 2, 2011, the Departments of Education and Justice jointly issued guidance that explains how educational institutions can promote student diversity or avoid racial isolation within the framework of Title VI (e.g., through consideration of the racial demographics of neighborhoods when drawing assignment zones for schools or through targeted recruiting efforts). The “Guidance on the Voluntary Use of Race to Achieve Diversity and Avoid Racial Isolation in Elementary and Secondary Schools” is available on the Department's Web site at www.ed.gov/ocr/docs/guidance-ese-201111.pdf.

Background: Through its competitions, the i3 program strives to improve the academic achievement of high-need students by accelerating the identification of promising solutions to pressing challenges in kindergarten through grade 12 (K-12) public education. The i3 program supports the evaluation of the efficacy of such solutions, and the development of new approaches to scaling effective practices to serve more students. Through five competitions, the i3 program has built a portfolio of grantees that are serving high-need students and building rigorous evidence regarding different approaches to addressing critical challenges in education. When selecting the priorities for a given competition, the Department considers several factors, including the Department's policy priorities, the need for new solutions in a particular priority area, the extent of the existing evidence in the field supporting effective practices in a particular priority area, whether other available funding exists for a particular priority area, and the results and lessons learned from projects funded through prior i3 competitions.

All i3 grantees are expected to improve academic outcomes for high-need students (as defined in this notice). The FY 2015 Scale-up competition sets out five absolute priorities and allows an applicant to choose which absolute priority it will address; however, applicants applying under the Serving Rural Communities priority (Absolute Priority 5) must also address one of the other four absolute priorities, while serving students enrolled in rural LEAs (as defined in this notice). These absolute priorities, as described below, represent persistent challenges in public education for which there are solutions that are supported by rigorous and generalizable evidence. We also include three competitive preference priorities for i3 applicants, as described below.

First, we include an absolute priority for projects designed to improve the effectiveness of teachers or principals. Effective teachers and principals are critical to improving student achievement. To address this priority, applicants may focus on any portion of the teacher or principal career path, including scaling effective methods for recruiting, preparing, supporting, evaluating, retaining or rewarding effective teachers or principals. We are particularly interested in efforts that provide differentiated leadership opportunities and roles for teachers or principals, given the increased demands on educators in the area of instructional leadership. We note that LEAs and nonprofits are implementing a wide range of approaches to supporting effective teachers and principals, and this competition seeks to scale the most effective approaches to reach more students and educators across a range of contexts. Recent research, for example, suggests that novice teachers trained through alternative routes can be recruited, and prepared to perform as effectively as, or in some cases more effectively than, traditional teacher certification programs.¹ As researchers study various strategies for training and supporting novice teachers and principals, the Department seeks to encourage innovative models that can strengthen teaching and school leadership in a cost effective manner.²

¹ Clark, M.A., Chiang, H.S., Silva, T., McConnell, S., Sonnenfeld, K., Erbe, A., & Puma, M. (2013). The effectiveness of secondary math teachers from Teach For America and the Teaching Fellows programs. (NCEE 2013-4015). Washington, DC: National Center for Education Evaluation and Regional Assistance, Institute of Education Sciences, U.S. Department of Education.

² Branch, G.F., Hanushek, E.A., Rivkin, S.G. (2013). School Leaders Matter. Education Next, Vol. 13, No. 1:62-69.

Allen, J., Pianta, R., Gregory, A., Mikami, A., & Lun, J. (2011). An interaction-based approach to enhancing secondary school instruction and student achievement. Science, 333, 1034-1037.

Clark, M.A., Chiang, H.S., Silva, T., McConnell, S., Sonnenfeld, K., Erbe, A., & Puma, M. (2013). The effectiveness of secondary math teachers from Teach For America and the Teaching Fellows programs (NCEE 2013-4015). Washington, DC: National Center for Education Evaluation and Regional Assistance, Institute of Education Sciences, U.S. Department of Education.

Second, we include an absolute priority for projects designed to implement and support the transition to internationally benchmarked, college- and career-ready academic content standards. Many states have recently raised the expectations for what their students should be able to learn and do across the K-12 grade span, so that all students will be adequately prepared for the rigorous demands of college and career. As the 2015 Brown Center Report on American Education ³ points out, ongoing analysis of the effects of implementing high standards within and across States is crucial to ensuring their effectiveness in improving student achievement. Developing and implementing approaches that provide students and educators necessary information and support throughout this transition to higher standards is key to ensuring that this shift results in improvements in student learning and skills. Through this priority, we seek projects that leverage data from assessments that are aligned with internationally benchmarked, college- and career-ready standards to inform instruction and, ultimately, to support and improve student achievement.

³ Loveless, Tom. How Well are American Students Learning? (March 2015). The 2015 Brown Center Report on American Education. Volume III, Number 4. Available at: http://www.brookings.edu/~/media/Research/Files/Reports/2015/03/BCR/2015-Brown-Center-Report_FINAL.pdf?la=en.

Third, we include an absolute priority aimed at improving science, technology, engineering, and mathematics (STEM) education. Ensuring that all students can access and excel in STEM fields is essential to meeting the needs of our Nation's economy and encouraging our future prosperity.⁴ Careers in STEM fields are growing, as is the body of knowledge required to compete for and succeed in these specialized jobs.⁵ Recent Bureau of Labor Statistics data show that, between 2010 and 2020, employment in STEM occupations is expected to expand faster than employment in non-STEM occupations (by 17 versus 14 percent).⁶ Moreover, STEM-related skills, such as data analysis, and computational and technical literacy are relevant to a wide array of post-secondary educational and professional pursuits.

⁴ Langdon, D.; McKittrick, G.; Beede, D.; Khan, B.; and Doms, M. Office of the Chief Economist, U.S. Department of Commerce. STEM: Good Jobs Now and for the Future (July 2011). Available at: www.esa.doc.gov/sites/default/files/reports/documents/stemfinaljuly14.pdf.

⁵ Chairman's Staff of the Joint Economic Committee. Calculations using data from the Bureau of Labor Statistics. Employment Projections: 2010-20. Table 1.7 Occupational Employment and Job Openings Data, Projected 2010-20, and Worker Characteristics, 2010. February 2012. Available at: http://bls.gov/emp/. For the purposes of this calculation, STEM occupations are defined as in the U.S. Department of Commerce's Economics and Statistics Administration report, STEM: Good Jobs Now and for the Future. ESA Issue Brief #03-11. July 2011.

⁶ Chairman's Staff of the Joint Economic Committee. Calculations using data from the Bureau of Labor Statistics. Employment Projections: 2010-20. Table 1.7 Occupational Employment and Job Openings Data, Projected 2010-20, and Worker Characteristics, 2010. February 2012. Available at: http://bls.gov/emp/. For the purposes of this calculation, STEM occupations are defined as in the U.S. Department of Commerce's Economics and Statistics Administration report, STEM: Good Jobs Now and for the Future. ESA Issue Brief #03-11. July 2011.

Fourth, we include an absolute priority focused on implementing comprehensive high school reform strategies in high schools that are eligible to operate Title I schoolwide programs under Section 1114 of the Elementary and Secondary Education Act of 1965, as amended (ESEA), or in schools that can demonstrate that not less than 40 percent of students are from low-income families. These strategies encompass a broad spectrum of interventions, including, but not limited to: Implementing a rigorous college- and career-ready curriculum that links student work and real-world experiences; providing accelerated learning opportunities that allow students to earn credit toward a postsecondary degree, including dual enrollment programs and early-college high schools strategies; implementing early warning indicator systems to identify and target supports for struggling students; personalizing learning for students; and strengthening relationships with business and post-secondary partners to link student work to real-world expectations and experiences. There is also evidence demonstrating that comprehensive academic supports for high school students can improve student outcomes, increasing high school graduation and college preparation,⁷ including for high-need students.⁸

⁷ Fryer, Roland G. (April 2014). Injecting Charter School Best Practices into Traditional Public Schools: Evidence from Field Experiments. Available at: http://scholar.harvard.edu/files/fryer/files/2014_injecting_charter_school_best_practices_into_traditional_public_schools.pdf; Sinclair, M.F., Christenson, S.L., Lehr, C.A., & Anderson, A.R. (2003). Facilitating student engagement: Lessons learned from Check & Connect longitudinal studies. The California School Psychologist, 8(1), 29-42. IES Intervention Report Available at: http://ies.ed.gov/ncee/wwc/interventionreport.aspx?sid=78; and Constantine, J.M., Seftor, N.S., Martin, E.S., Silva, T., & Myers, D. (2006). A study of the effect of the Talent Search program on secondary and postsecondary outcomes in Florida, Indiana, and Texas: Final report from phase II of the national evaluation. Report prepared by Mathematica Policy Research for the U.S. Department of Education, Office of Planning, Evaluation, and Policy Development, Policy and Program Studies Service. Washington, DC: U.S. Department of Education. IES Intervention Report Available at: http://ies.ed.gov/ncee/wwc/interventionreport.aspx?sid=508.

⁸ Bloom, D., Gardenhire-Crooks, A., & Mandsager, C. (2009). Reengaging high school dropouts: Early results of the National Guard Youth ChalleNGe Program evaluation. New York, NY: MDRC; Cave, G., Bos, H., Doolittle, F., & Toussaint, C. (1993). JOBSTART: Final report on a program for school dropouts. New York, NY: MDRC. IES Intervention Report Available at: http://ies.ed.gov/ncee/wwc/interventionreport.aspx?sid=248; and Larson, K.A., & Rumberger, R.W. (1995). ALAS: Achievement for Latinos through Academic Success. In H. Thornton (Ed.), Staying in school. A technical report of three dropout prevention projects for junior high school students with learning and emotional disabilities. Minneapolis, MN: University of Minnesota, Institute on Community Integration. IES Intervention Report Available at: http://ies.ed.gov/ncee/wwc/interventionreport.aspx?sid=22.

Finally, we include an absolute priority for serving rural communities. Students living in rural communities face unique challenges, such as lack of access to specialized courses. Applicants applying under this priority must also address one of the other four absolute priorities established for the FY 2015 i3 Scale-up competition, as described above, while serving students enrolled in rural local educational agencies (as defined in this notice).

We also include three competitive preference priorities in the FY 2015 Scale-up competition. The Department encourages applicants to design projects that address these competitive preference priorities in their applications.

First, we include a competitive preference priority focused on improving cost-effectiveness and productivity. Improvements in operational, organizational, and instructional processes and structures will enable organizations to strengthen their results, and to do so in a more efficient manner. Applicants should provide detailed information about how they aim to modify their processes and structures to improve productivity and how they will evaluate whether the proposed projects are cost-effective when implemented. This may include assessing the cost of comparable or alternative approaches. In order to receive competitive preference points, applicants addressing this priority must provide a detailed budget, an examination of different types of costs, and a plan to monitor and evaluate cost savings, all of which are essential to improving productivity.

Second, we include a competitive preference priority for projects that enable the broad adoption of effective practices. This competitive preference priority rewards applicants that will implement systematic methods for identifying and supporting the expansion of these practices. While all Scale-up grantees must codify the core elements of their i3-supported practices, we are interested in projects that focus particularly on the documentation and replication of practices that have been demonstrated to be effective. In addition, practitioners and policymakers need access to strong, reliable data to make informed decisions about adopting effective practices, particularly to replace less effective alternatives. This competitive preference priority supports strategies that identify key elements of effective practices and that capture lessons learned about the implementation of these practices. In addition, an applicant addressing this priority must commit to implementing their approach in multiple settings and locations in order to ensure that the practice can be successfully replicated in different contexts.

Third, in order to expand the reach of the i3 program and encourage entities that have not previously received an i3 grant to apply, the Department includes a competitive preference priority for novice i3 applicants. A novice i3 applicant is an applicant that has never received a grant under the i3 program. An applicant must identify whether it is a novice applicant when completing the applicant information sheet. Instructions on how to complete the applicant information sheet are included in the application package.

In summary, applications must address one of the first four absolute priorities for this competition and propose projects designed to implement practices that serve students who are in grades K-12 at some point during the funding period. If an applicant chooses to also address the absolute priority regarding students in rural LEAs, that applicant must also address one of the other four absolute priorities established for the FY 2015 i3 Scale-up competition, as described above, while serving students enrolled in rural LEAs (as defined in this notice). Additionally, applicants must be able to show strong evidence of effectiveness (as defined in this notice) for the proposed process, product, strategy, or practice included in their applications. Applicants should carefully review all of the requirements in the Eligibility Information section of this notice for instructions on how to demonstrate strong evidence of effectiveness and for information on the other eligibility and program requirements.

The i3 program includes a statutory requirement for a private-sector match for all i3 grantees. For Scale-up grants, an applicant must obtain matching funds or in-kind donations from the private sector equal to at least 5 percent of its grant award. Each highest-rated application, as identified by the Department following peer review of the applications, must submit evidence of at least 50 percent of the required private-sector match prior to the awarding of an i3 grant. An applicant must provide evidence of the remaining 50 percent of the required private-sector match no later than three months after the project start date (i.e., for the FY 2015 competition, three months after January 1, 2016, or by April 1, 2016). The grant will be terminated if the grantee does not secure its private-sector match by the established deadline.

This notice includes selection criteria for the FY 2015 Scale-up competition that are designed to ensure that applications selected for funding have the potential to generate substantial improvements in student achievement (and other key outcomes), and include well-articulated plans for the implementation and evaluation of the proposed projects. Applicants should review the selection criteria and submission instructions carefully to ensure their applications address this year's criteria.

An entity that submits an application for a Scale-up grant must include the following information in its application: An estimate of the number of students to be served by the project; evidence of the applicant's ability to implement and appropriately evaluate the proposed project; and information about its capacity (e.g., management capacity, financial resources, and qualified personnel) to implement the project at a national level, working directly or through partners. We recognize that LEAs are not typically responsible for taking their practices, strategies, or programs to scale; however, all applicants can and should partner with others to disseminate their effective practices, strategies, and programs and take them to scale.

The Department will screen applications that are submitted for Scale-up grants in accordance with the requirements in this notice and determine which applications meet the eligibility and other requirements. Peer reviewers will review all applications for Scale-up grants that are submitted by the established deadline.

Applicants should note, however, that we may screen for eligibility at multiple points during the competition process, including before and after peer review; applicants that are determined to be ineligible will not receive a grant award regardless of peer reviewer scores or comments. If we determine that a Scale-up grant application is not supported by strong evidence of effectiveness, or that the applicant does not demonstrate the required prior record of improvement, or does not meet any other i3 requirement, the application will not be considered for funding.

Priorities: This competition includes five absolute priorities and three competitive preference priorities. Absolute Priorities 1, 3, and 5 and the three competitive preference priorities are from the notice of final priorities, requirements, definitions, and selection criteria for this program, published in the Federal Register on March 27, 2013 (78 FR 18682) (2013 i3 NFP). Absolute Priority 2 is from the Department's notice of final supplemental priorities and definitions, published in the Federal Register on December 10, 2014 (79 FR 73425). Absolute Priority 4 is from the notice of final priority for this program, published elsewhere in this issue of the Federal Register (2015 i3 NFP).

Absolute Priorities: For FY 2015 and any subsequent year in which we make awards from the list of unfunded applicants from this competition, these priorities are absolute priorities. Under 34 CFR 75.105(c)(3) we consider only applications that meet one of these priorities.

An applicant for a Scale-up grant must choose one of the five absolute priorities. Applications will be peer reviewed and scored; because scores will be rank ordered by absolute priority, it is essential that an applicant clearly identify the specific absolute priority that the proposed project addresses. It is also important to note that applicants that choose to submit an application under the absolute priority for Serving Rural Communities must identify an additional absolute priority. Regardless, the peer-reviewed scores for applications submitted under the Serving Rural Communities priority will be ranked with other applications under its priority, and not included in the ranking for the additional priority that the applicant identified. This design helps us ensure that applicants under the Serving Rural Communities priority receive an “apples to apples” comparison with other rural applicants.

These priorities are:

Absolute Priority 1—Improving the Effectiveness of Teachers and Principals.

Under this priority, we provide funding to projects addressing pressing needs related to improving teacher or principal effectiveness.

Absolute Priority 2—Implementing Internationally Benchmarked College- and Career-Ready Standards and Assessments.

Under this priority, we provide funding to projects that are designed to support the implementation of, and transition to, internationally benchmarked college- and career-ready standards and assessments, including developing and implementing strategies that use the standards and information from assessments to inform classroom practices that meet the needs of all students.

Absolute Priority 3—Improving Science, Technology, Engineering, and Mathematics (STEM) Education.

Under this priority, we provide funding to projects addressing pressing needs for improving STEM education.

Absolute Priority 4—Implementing Comprehensive High School Reform and Redesign.

Under this priority, we provide funding to support comprehensive high school reform and redesign strategies in high schools eligible to operate Title I school-wide programs under section 1114 of the Elementary and Secondary Education Act of 1965, as amended, or in schools that can demonstrate that not less than 40 percent of students are from low-income families. These strategies must be designed to increase the number and percentage of students who graduate from high school college- and career-ready and enroll in college, other postsecondary education, or other career and technical education.

These strategies could include elements such as implementing a rigorous college- and career-ready curriculum; providing accelerated learning opportunities; supporting personalized learning; developing robust links between student work and real-world experiences to better prepare students for their future; improving the readiness of students for post-secondary education in STEM fields; or reducing the need for remediation, among others.

Absolute Priority 5—Serving Rural Communities.

Under this priority, we provide funding to projects that address one of the absolute priorities established for the 2015 Scale-up i3 competition and under which the majority of students to be served are enrolled in rural local educational agencies (as defined in this notice).

Competitive Preference Priorities: For FY 2015 and any subsequent year in which we make awards from the list of unfunded applicants from this competition, these priorities are competitive preference priorities. Under 34 CFR 75.105(c)(2)(i) we award three additional points to applications that meet the first competitive preference priority, five additional points to applications that meet the second competitive preference priority, and five additional points to applications that meet the third competitive preference priority.

Applicants may address more than one of the competitive preference priorities. An applicant must identify in the project narrative section of its application the priority or priorities it wishes the Department to consider for purposes of earning competitive preference priority points.

Note: The Department will not review or award points under any competitive preference priority that the applicant fails to clearly identify as the competitive preference priority or priorities the applicant wishes the Department to consider for purposes of earning competitive preference priority points.

These priorities are:

Competitive Preference Priority 1—Improving Cost-Effectiveness and Productivity (zero or 3 points).

Under this priority, we provide funding to projects that address one of the following areas:

(a) Substantially improving student outcomes without commensurately increasing per-student costs.

(b) Maintaining student outcomes while substantially decreasing per-student costs.

(c) Substantially improving student outcomes while substantially decreasing per-student costs.

Other requirements related to Competitive Preference Priority 1:

An application addressing this priority must provide—

(1) A clear and coherent budget that identifies expected student outcomes before and after the practice, the cost per student for the practice, and a clear calculation of the cost per student served;

(2) A compelling discussion of the expected cost-effectiveness of the practice compared with alternative practices;

(3) A clear delineation of one-time costs versus ongoing costs and a plan for sustaining the project, particularly ongoing costs, after the expiration of i3 funding;

(4) Identification of specific activities designed to increase substantially the cost-effectiveness of the practice, such as re-designing costly components of the practice (while maintaining efficacy) or testing multiple versions of the practice in order to identify the most cost-effective approach; and

(5) A project evaluation that addresses the cost-effectiveness of the proposed practice.

Competitive Preference Priority 2—Enabling Broad Adoption of Effective Practices (zero or 5 points).

Under this priority, we provide funding to projects that enable broad adoption of effective practices. An application proposing to address this priority must, as part of its application:

(a) Identify the practice or practices that the application proposes to prepare for broad adoption, including formalizing the practice (i.e., establish and define key elements of the practice), codifying (i.e., develop a guide or tools to support the dissemination of information on key elements of the practice), and explaining why there is a need for formalization and codification.

(b) Evaluate different forms of the practice to identify the critical components of the practice that are crucial to its success and sustainability, including the adaptability of critical components to different teaching and learning environments and to diverse learners.

(c) Provide a coherent and comprehensive plan for developing materials, training, toolkits, or other supports that other entities would need in order to implement the practice effectively and with fidelity.

(d) Commit to assessing the replicability and adaptability of the practice by supporting the implementation of the practice in a variety of locations during the project period using the materials, training, toolkits, or other supports that were developed for the i3-supported practice.

Competitive Preference Priority 3—Supporting Novice i3 Applicants (zero or 5 points).

Eligible applicants that have never directly received a grant under this program.

Definitions:

The definitions of “large sample,” “logic model,” “multi-site sample,” “national level,” “quasi-experimental design study,” “randomized controlled trial,” “regional level,” “relevant outcome,” “strong evidence of effectiveness,” and “What Works Clearinghouse Evidence Standards” are from 34 CFR 77.1. All other definitions are from the 2013 i3 NFP. We may apply these definitions in any year in which this program is in effect.

Consortium of schools means two or more public elementary or secondary schools acting collaboratively for the purpose of applying for and implementing an i3 grant jointly with an eligible nonprofit organization.

High-minority school is defined by a school's LEA in a manner consistent with the corresponding State's Teacher Equity Plan, as required by section 1111(b)(8)(C) of the ESEA. The applicant must provide, in its i3 application, the definition(s) used.

High-need student means a student at risk of educational failure or otherwise in need of special assistance and support, such as students who are living in poverty, who attend high-minority schools (as defined in this notice), who are far below grade level, who have left school before receiving a regular high school diploma, who are at risk of not graduating with a diploma on time, who are homeless, who are in foster care, who have been incarcerated, who have disabilities, or who are English learners.

High school graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

Independent evaluation means that the evaluation is designed and carried out independent of, but in coordination with, any employees of the entities who develop a process, product, strategy, or practice and are implementing it.

Innovation means a process, product, strategy, or practice that improves (or is expected to improve) significantly upon the outcomes reached with status quo options and that can ultimately reach widespread effective usage.

Large sample means an analytic sample of 350 or more students (or other single analysis units), or 50 or more groups (such as classrooms or schools) that contain 10 or more students (or other single analysis units).

Logic model (also referred to as theory of action) means a well-specified conceptual framework that identifies key components of the proposed process, product, strategy, or practice (i.e., the active “ingredients” that are hypothesized to be critical to achieving the relevant outcomes) and describes the relationships among the key components and outcomes, theoretically and operationally.

Multi-site sample means more than one site, where site can be defined as an LEA, locality, or State.

National level describes the level of scope or effectiveness of a process, product, strategy, or practice that is able to be effective in a wide variety of communities, including rural and urban areas, as well as with different groups (e.g., economically disadvantaged, racial and ethnic groups, migrant populations, individuals with disabilities, English learners, and individuals of each gender).

Nonprofit organization means an entity that meets the definition of “nonprofit” under 34 CFR 77.1(c), or an institution of higher education as defined by section 101(a) of the Higher Education Act of 1965, as amended.

Quasi-experimental design study means a study using a design that attempts to approximate an experimental design by identifying a comparison group that is similar to the treatment group in important respects. These studies, depending on design and implementation, can meet What Works Clearinghouse Evidence Standards with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcomes for the treatment group and for the control group. These studies, depending on design and implementation, can meet What Works Clearinghouse Evidence Standards without reservations.

Regional level describes the level of scope or effectiveness of a process, product, strategy, or practice that is able to serve a variety of communities within a State or multiple States, including rural and urban areas, as well as with different groups (e.g., economically disadvantaged, racial and ethnic groups, migrant populations, individuals with disabilities, English learners, and individuals of each gender). For an LEA-based project to be considered a regional-level project, a process, product, strategy, or practice must serve students in more than one LEA, unless the process, product, strategy, or practice is implemented in a State in which the State educational agency is the sole educational agency for all schools.

Relevant outcome means the student outcome(s) (or the ultimate outcome if not related to students) the proposed process, product, strategy or practice is designed to improve; consistent with the specific goals of a program.

Rural local educational agency means a local educational agency (LEA) that is eligible under the Small Rural School Achievement (SRSA) program or the Rural and Low-Income School (RLIS) program authorized under Title VI, Part B of the ESEA. Eligible applicants may determine whether a particular LEA is eligible for these programs by referring to information on the Department's Web site at www2.ed.gov/nclb/freedom/local/reap.html.

Strong evidence of effectiveness means one of the following conditions is met:

(i) There is at least one study of the effectiveness of the process, product, strategy, or practice being proposed that meets the What Works Clearinghouse Evidence Standards without reservations, found a statistically significant favorable impact on a relevant outcome (with no statistically significant and overriding unfavorable impacts on that outcome for relevant populations in the study or in other studies of the intervention reviewed by and reported on by the What Works Clearinghouse), includes a sample that overlaps with the populations and settings proposed to receive the process, product, strategy, or practice, and includes a large sample and a multi-site sample. (Note: Multiple studies can cumulatively meet the large and multi-site sample requirements as long as each study meets the other requirements in this paragraph).

(ii) There are at least two studies of the effectiveness of the process, product, strategy, or practice being proposed, each of which: Meets the What Works Clearinghouse Evidence Standards with reservations, found a statistically significant favorable impact on a relevant outcome (with no statistically significant and overriding unfavorable impacts on that outcome for relevant populations in the studies or in other studies of the intervention reviewed by and reported on by the What Works Clearinghouse), includes a sample that overlaps with the populations and settings proposed to receive the process, product, strategy, or practice, and includes a large sample and a multi-site sample.

Student achievement means—

(a) For grades and subjects in which assessments are required under ESEA section 1111(b)(3): (1) A student's score on such assessments and may include (2) other measures of student learning, such as those described in paragraph (b), provided they are rigorous and comparable across schools within an LEA.

(b) For grades and subjects in which assessments are not required under ESEA section 1111(b)(3): Alternative measures of student learning and performance such as student results on pre-tests, end-of-course tests, and objective performance-based assessments; student learning objectives; student performance on English language proficiency assessments; and other measures of student achievement that are rigorous and comparable across schools within an LEA.

Student growth means the change in student achievement (as defined in this notice) for an individual student between two or more points in time. An applicant may also include other measures that are rigorous and comparable across classrooms.

What Works Clearinghouse Evidence Standards means the standards set forth in the What Works Clearinghouse Procedures and Standards Handbook (Version 3.0, March 2014), which can be found at the following link: http://ies.ed.gov/ncee/wwc/DocumentSum.aspx?sid=19.

Program Authority: American Recovery and Reinvestment Act of 2009, Division A, Section 14007, Pub. L. 111-5.

Applicable Regulations: (a) EDGAR in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) 2013 i3 NFP (78 FR 18681). (e) 2015 i3 NFP, published elsewhere in this issue of the Federal Register. (f) The Supplemental Priorities (79 FR 73425).

Note: The regulations in 34 CFR part 79 apply to all applicants except federally recognized Indian tribes.

Note: The regulations in 34 CFR part 86 apply to institutions of higher education only.

II. Award Information

Type of Award: Cooperative agreements or discretionary grants.

Estimated Available Funds: $112,400,000.

These estimated available funds are the total available for all three types of grants under the i3 program (Development, Validation, and Scale-up grants). Contingent upon the availability of funds and the quality of applications, we may make additional awards in FY 2016 or later years from the list of unfunded applicants from this competition.

Estimated Range of Awards:

Development grants: Up to $3,000,000.

Validation grants: Up to $12,000,000.

Scale-up grants: Up to $20,000,000.

Note: The upper limit of the range of awards (e.g., $20,000,000 for Scale-up grants) is referred to as the “maximum amount of awards” in section 5 of this notice.

Estimated Average Size of Awards:

Development grants: $3,000,000.

Validation grants: $11,500,000.

Scale-up grants: $19,000,000.

Estimated Number of Awards:

Development grants: 9-11 awards.

Validation grants: 2-4 awards.

Scale-up grants: 0-1 awards.

Note: The Department is not bound by any estimates in this notice.

Note: The Department is not bound by any estimates in this notice.

Project Period: 36-60 months.

III. Eligibility Information

1. Innovations that Improve Achievement for High-Need Students: All grantees must implement practices that are designed to improve student achievement (as defined in this notice) or student growth (as defined in this notice), close achievement gaps, decrease dropout rates, increase high school graduation rates (as defined in this notice), or increase college enrollment and completion rates for high-need students (as defined in this notice).

2. Innovations that Serve Kindergarten-through-Grade-12 (K-12) Students: All grantees must implement practices that serve students who are in grades K-12 at some point during the funding period. To meet this requirement, projects that serve early learners (i.e., infants, toddlers, or preschoolers) must provide services or supports that extend into kindergarten or later years, and projects that serve postsecondary students must provide services or supports during the secondary grades or earlier.

3. Eligible Applicants: Entities eligible to apply for i3 grants include either of the following:

(a) An LEA.

(b) A partnership between a nonprofit organization and—

(1) One or more LEAs; or

(2) A consortium of schools.

Statutory Eligibility Requirements: Except as specifically set forth in the Note about Eligibility for an Eligible Applicant that Includes a Nonprofit Organization that follows, to be eligible for an award, an eligible applicant must—

(a)(1) Have significantly closed the achievement gaps between groups of students described in section 1111(b)(2) of the ESEA (economically disadvantaged students, students from major racial and ethnic groups, students with limited English proficiency, students with disabilities); or

(2) Have demonstrated success in significantly increasing student academic achievement for all groups of students described in that section;

(b) Have made significant improvements in other areas, such as high school graduation rates (as defined in this notice) or increased recruitment and placement of high-quality teachers and principals, as demonstrated with meaningful data;

(c) Demonstrate that it has established one or more partnerships with the private sector, which may include philanthropic organizations, and that organizations in the private sector will provide matching funds in order to help bring results to scale; and

(d) In the case of an eligible applicant that includes a nonprofit organization, provide in the application the names of the LEAs with which the nonprofit organization will partner, or the names of the schools in the consortium with which it will partner. If an eligible applicant that includes a nonprofit organization intends to partner with additional LEAs or schools that are not named in the application, it must describe in the application the demographic and other characteristics of these LEAs and schools and the process it will use to select them.

Note: An entity submitting an application should provide, in Appendix C, under “Other Attachments Form,” of its application, information addressing the eligibility requirements described in this section. An applicant must provide, in its application, sufficient supporting data or other information to allow the Department to determine whether the applicant has met the eligibility requirements. Note that in order to address the statutory eligibility requirement above, applicants must provide data that demonstrate a change. In other words, applicants must provide data for at least two points in time when addressing this requirement in Appendix C of their applications. If the Department determines that an applicant has provided insufficient information in its application, the applicant will not have an opportunity to provide additional information.

Note about LEA Eligibility: For purposes of this program, an LEA is an LEA located within one of the 50 States, the District of Columbia, or the Commonwealth of Puerto Rico.

Note about Eligibility for an Eligible Applicant that Includes a Nonprofit Organization: The authorizing statute specifies that an eligible applicant that includes a nonprofit organization meets the requirements in paragraphs (a) and (b) of the eligibility requirements for this program if the nonprofit organization has a record of significantly improving student achievement, attainment, or retention. For an eligible applicant that includes a nonprofit organization, the nonprofit organization must demonstrate that it has a record of significantly improving student achievement, attainment, or retention through its record of work with an LEA or schools. Therefore, an eligible applicant that includes a nonprofit organization does not necessarily need to include as a partner for its i3 grant an LEA or a consortium of schools that meets the requirements in paragraphs (a) and (b) of the eligibility requirements in this notice.

In addition, the authorizing statute specifies that an eligible applicant that includes a nonprofit organization meets the requirements of paragraph (c) of the eligibility requirements in this notice if the eligible applicant demonstrates that it will meet the requirement for private-sector matching.

4. Cost Sharing or Matching: To be eligible for an award, an applicant must demonstrate that one or more private-sector organizations, which may include philanthropic organizations, will provide matching funds in order to help bring project results to scale. An eligible Scale-up applicant must obtain matching funds, or in-kind donations, equal to at least five percent of its Federal grant award. The highest-rated eligible applicants must submit evidence of 50 percent of the required private-sector matching funds following the peer review of applications. A Federal i3 award will not be made unless the applicant provides adequate evidence that the 50 percent of the required private-sector match has been committed or the Secretary approves the eligible applicant's request to reduce the matching-level requirement. An applicant must provide evidence of the remaining 50 percent of required private-sector match three months after the project start date.

The Secretary may consider decreasing the matching requirement on a case-by-case basis, and only in the most exceptional circumstances. An eligible applicant that anticipates being unable to meet the full amount of the private-sector matching requirement must include in its application a request that the Secretary reduce the matching-level requirement, along with a statement of the basis for the request.

Note: An applicant that does not provide a request for a reduction of the matching-level requirement in its application may not submit that request at a later time.

5. Other: The Secretary establishes the following requirements for the i3 program. These requirements are from the 2013 i3 NFP. We may apply these requirements in any year in which this program is in effect.

• Evidence Standards: To be eligible for an award, an application for a Scale-up grant must be supported by strong evidence of effectiveness (as defined in this notice).

Note: An applicant should identify up to four study citations to be reviewed against What Works Clearinghouse Evidence Standards for the purposes of meeting the i3 evidence standard requirement. An applicant should clearly identify these citations in Appendix D, under the “Other Attachments Form,” of its application. The Department will not review a study citation that an applicant fails to clearly identify for review. In addition to the four study citations, applicants should include a description of the intervention(s) the applicant plans to implement and the intended student outcomes that the intervention(s) attempts to impact in Appendix D.

An applicant must either ensure that all evidence is available to the Department from publicly available sources and provide links or other guidance indicating where it is available; or, in the application, include copies of evidence in Appendix D. If the Department determines that an applicant has provided insufficient information, the applicant will not have an opportunity to provide additional information at a later time.

Note: The evidence standards apply to the prior research that supports the effectiveness of the proposed project. The i3 program does not restrict the source of prior research providing evidence for the proposed project. As such, an applicant could cite prior research in Appendix D for studies that were conducted by another entity (i.e., an entity that is not the applicant) so long as the prior research studies cited in the application are relevant to the effectiveness of the proposed project.

• Funding Categories: An applicant will be considered for an award only for the type of i3 grant (i.e., Development, Validation, and Scale-up grants) for which it applies. An applicant may not submit an application for the same proposed project under more than one type of grant.

• Limit on Grant Awards: (a) No grantee may receive more than two new grant awards of any type under the i3 program in a single year; (b) in any two-year period, no grantee may receive more than one new Scale-up or Validation grant; and (c) no grantee may receive in a single year new i3 grant awards that total an amount greater than the sum of the maximum amount of funds for a Scale-up grant and the maximum amount of funds for a Development grant for that year. For example, in a year when the maximum award value for a Scale-up grant is $20 million and the maximum award value for a Development grant is $3 million, no grantee may receive in a single year new grants totaling more than $23 million.

• Subgrants: In the case of an eligible applicant that is a partnership between a nonprofit organization and (1) one or more LEAs or (2) a consortium of schools, the partner serving as the applicant and, if funded, as the grantee, may make subgrants to one or more entities in the partnership.

• Evaluation: The grantee must conduct an independent evaluation (as defined in this notice) of its project. This evaluation must estimate the impact of the i3-supported practice (as implemented at the proposed level of scale) on a relevant outcome (as defined in this notice). The grantee must make broadly available digitally and free of charge, through formal (e.g., peer-reviewed journals) or informal (e.g., newsletters) mechanisms, the results of any evaluations it conducts of its funded activities. For Scale-up and Validation grants, the grantee must also ensure that the data from its evaluation are made available to third-party researchers consistent with applicable privacy requirements.

In addition, the grantee and its independent evaluator must agree to cooperate with any technical assistance provided by the Department or its contractor and comply with the requirements of any evaluation of the program conducted by the Department. This includes providing to the Department, within 100 days of a grant award, an updated comprehensive evaluation plan in a format and using such tools as the Department may require. Grantees must update this evaluation plan at least annually to reflect any changes to the evaluation. All of these updates must be consistent with the scope and objectives of the approved application.

• Communities of Practice: Grantees must participate in, organize, or facilitate, as appropriate, communities of practice for the i3 program. A community of practice is a group of grantees that agrees to interact regularly to solve a persistent problem or improve practice in an area that is important to them.

• Management Plan: Within 100 days of a grant award, the grantee must provide an updated comprehensive management plan for the approved project in a format and using such tools as the Department may require. This management plan must include detailed information about implementation of the first year of the grant, including key milestones, staffing details, and other information that the Department may require. It must also include a complete list of performance metrics, including baseline measures and annual targets. The grantee must update this management plan at least annually to reflect implementation of subsequent years of the project.

IV. Application and Submission Information

1. Address to Request Application Package: You can obtain an application package via the Internet or from the Education Publications Center (ED Pubs). To obtain a copy via the Internet, use the following address: http://www2.ed.gov/programs/innovation/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this program or competition as follows: CFDA number 84.411A.

Individuals with disabilities can obtain a copy of the application package in an accessible format (e.g., braille, large print, audiotape, or compact disc) by contacting the person or team listed under Accessible Format in section VIII of this notice.

2. a. Content and Form of Application Submission: Requirements concerning the content of an application, together with the forms you must submit, are in the application package for this competition.

Deadline for Notice of Intent to Submit Application: June 25, 2015.

We will be able to develop a more efficient process for reviewing grant applications if we know the approximate number of applicants that intend to apply for funding under this competition. Therefore, the Secretary strongly encourages each potential applicant to notify us of the applicant's intent to submit an application by completing a Web-based form. When completing this form, applicants will provide (1) the applicant organization's name and address and (2) the one absolute priority the applicant intends to address. Applicants may access this form online at https://www.surveymonkey.com/r/VWFQPMD. Applicants that do not complete this form may still submit an application. Page Limit: The application narrative (Part III of the application) is where you, the applicant, address the selection criteria that reviewers use to evaluate your application. Applicants should limit the application narrative [Part III] for a Scale-up grant application to no more than 50 pages. Applicants are also strongly encouraged not to include lengthy appendices that contain information that they were unable to include within the page limits for the narrative. Applicants should use the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit for the application does not apply to Part I, the cover sheet; Part II, the budget section, including the narrative budget justification; Part IV, the assurances and certifications; or the one-page abstract, the resumes, the bibliography, or the letters of support of the application. However, the page limit does apply to all of the application narrative section [Part III] of the application.

b. Submission of Proprietary Information:

Given the types of projects that may be proposed in applications for the i3 program, some applications may include business information that applicants consider proprietary. The Department's regulations define “business information” in 34 CFR 5.11.

Consistent with the process followed in the prior i3 competitions, we plan on posting the project narrative section of funded i3 applications on the Department's Web site so you may wish to request confidentiality of business information. Identifying proprietary information in the submitted application will help facilitate this public disclosure process.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Deadline for Notice of Intent to Apply: June 25, 2015.

Informational Meetings: The i3 program intends to hold Webinars designed to provide technical assistance to interested applicants for all three types of grants. Detailed information regarding these meetings will be provided on the i3 Web site at www2.ed.gov/programs/innovation/index.html.

Deadline for Transmittal of Applications: August 4, 2015.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under Agency Contact in section VII of this notice. If the Department provides an accommodation or auxiliary aid to an individual with a disability in connection with the application process, the individual's application remains subject to all other requirements and limitations in this notice.

Deadline for Intergovernmental Review: October 5, 2015.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow two-five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants for the i3 program must be submitted electronically unless you qualify for an exception to this requirement in accordance with the instructions in this section.

a. Electronic Submission of Applications.

Applications for grants under the i3 program, CFDA number 84.411A (Scale-up grants), must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the i3 program at www.Grants.gov. You must search for the downloadable application package for this competition by the CFDA number. Do not include the CFDA number's alpha suffix in your search (e.g., search for 84.411, not 84.411A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under Agency Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Kelly Terpak, U.S. Department of Education, 400 Maryland Avenue SW., Room 4C107, Washington, DC 20202-5930. FAX: (202) 205-5631.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.411A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.411A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for the Scale-up competition are from the 2013 i3 NFP and 34 CFR 75.210, and are listed below.

The points assigned to each criterion are indicated in the parentheses next to the criterion. An applicant may earn up to a total of 100 points based on the selection criteria for the application.

Note: An applicant must provide information on how its proposed project addresses the selection criteria in the project narrative section of its application. In responding to the selection criteria, applicants should keep in mind that peer reviewers may consider only the information provided in the written application when scoring and commenting on the application. Therefore, applicants should structure their applications with the goal of helping peer reviewers understand the following:

• What the applicant is proposing to do, including the absolute priority (or, if the applicant has selected the absolute priority for Serving Rural Communities, the absolute priorities) under which the applicant intends the application to be reviewed;

• How the proposed project will reach a national level of scale that the applicant was previously unable to reach; and

• What the outcomes of the project will be if it is successful, including how those outcomes will be evaluated.

Selection Criteria for the Scale-up Grant Application:

A. Significance (Up to 10 Points)

In determining the significance of the project, the Secretary considers the following factors:

(1) The extent to which the proposed project involves the development or demonstration of promising new strategies that build on, or are alternatives to, existing strategies. (34 CFR 75.210)

(2) The potential replicability of the proposed project or strategies, including, as appropriate, the potential for implementation in a variety of settings. (34 CFR 75.210)

(3) The extent to which the proposed project addresses a challenge for which there is a national need for solutions that are better than the solutions currently available. (2013 i3 NFP)

B. Strategy to Scale (Up to 35 Points)

In determining the applicant's capacity to scale the proposed project, the Secretary considers the following factors:

(1) The extent to which the applicant demonstrates there is unmet demand for the process, product, strategy or practice that will enable the applicant to reach the level of scale that is proposed in the application. (34 CFR 75.210)

(2) The extent to which the applicant will use grant funds to address a particular barrier or barriers that prevented the applicant, in the past, from reaching the level of scale proposed in the application. (2013 i3 NFP)

(3) The mechanisms the applicant will use to broadly disseminate information on its project so as to support further development or replication. (34 CFR 75.210)

C. Quality of the Project Design and Management Plan (Up to 35 Points)

In determining the quality of the proposed project design, the Secretary considers the following factors:

(1) The extent to which the goals, objectives, and outcomes to be achieved by the proposed project are clearly specified and measurable. (34 CFR 75.210)

(2) The adequacy of the management plan to achieve the objectives of the proposed project on time and within budget, including clearly defined responsibilities, timelines, and milestones for accomplishing project tasks. (34 CFR 75.210)

(3) The clarity and coherence of the applicant's multi-year financial and operating model and accompanying plan to operate the project at a national or regional level (as defined in this notice) during the project period. (2013 i3 NFP)

(4) The adequacy of procedures for ensuring feedback and continuous improvement in the operation of the proposed project. (34 CFR 75.210)

D. Quality of the Project Evaluation (Up to 20 Points)

In determining the quality of the project evaluation to be conducted, the Secretary considers the following factors:

(1) The extent to which the methods of evaluation will, if well implemented, produce evidence about the project's effectiveness that would meet the What Works Clearinghouse Evidence Standards without reservations. (34 CFR 75.210)

(2) The clarity and importance of the key questions to be addressed by the project evaluation, and the appropriateness of the methods for how each question will be addressed. (2013 i3 NFP)

(3) The extent to which the evaluation will study the project at the proposed level of scale, including, where appropriate, generating information about potential differential effectiveness of the project in diverse settings and for diverse student population groups. (2013 i3 NFP)

(4) The extent to which the evaluation plan includes a clear and credible analysis plan, including a proposed sample size and minimum detectable effect size that aligns with the expected project impact, and an analytic approach for addressing the research questions. (2013 i3 NFP)

(5) The extent to which the evaluation plan clearly articulates the key components and outcomes of the project, as well as a measurable threshold for acceptable implementation. (2013 i3 NFP)

(6) The extent to which the proposed project plan includes sufficient resources to carry out the project evaluation effectively. (2013 i3 NFP)

Note: Applicants are encouraged to design an evaluation that will report findings on English Learners, students with disabilities, and other subgroups. Additionally, applicants may wish to review the following technical assistance resources on evaluation: (1) WWC Procedures and Standards Handbook: http://ies.ed.gov/ncee/wwc/references/idocviewer/doc.aspx?docid=19&tocid=1; and (2) IES/NCEE Technical Methods papers: http://ies.ed.gov/ncee/tech_methods/. In addition, we invite applicants to view two optional Webinar recordings that were hosted by the Institute of Education Sciences. The first Webinar discussed strategies for designing and executing well-designed quasi-experimental design studies. Applicants interested in viewing this Webinar may find more information at the following Web site: http://ies.ed.gov/ncee/wwc/news.aspx?sid=23. We also encourage applicants to review a second Webinar recorded by the IES that focused on more rigorous evaluation designs. This Webinar discusses strategies for designing and executing studies that meet WWC standards without reservations. Applicants interested in reviewing this Webinar may find more information at the following Web site: http://ies.ed.gov/ncee/wwc/News.aspx?sid=18.

2. Review and Selection Process: As described earlier in this notice, before making awards, we will screen applications submitted in accordance with the requirements in this notice to determine whether applications have met eligibility and other requirements. This screening process may occur at various stages of the process; applicants that are determined to be ineligible will not receive a grant, regardless of peer reviewer scores or comments.

For the application review processes, we will use independent peer reviewers with varied backgrounds and professions including pre-kindergarten-grade 12 teachers and principals, college and university educators, researchers and evaluators, social entrepreneurs, strategy consultants, grant makers and managers, and others with education expertise. All reviewers will be thoroughly screened for conflicts of interest to ensure a fair and competitive review process.

Peer reviewers will read, prepare a written evaluation, and score the assigned applications, using the selection criteria provided in this notice. For Scale-up grant applications, the Department intends to conduct a single tier review. If an eligible applicant has chosen to address either of the first two competitive preference priorities (Improving Cost-Effectiveness and Productivity or Enabling Broad Adoption of Effective Practices) in order to earn competitive preference priority points, reviewers will review and score these competitive preference priorities. If competitive preference priority points are awarded, those points will be included in the eligible applicant's overall score. If an eligible applicant chooses to address the last competitive preference priority (Supporting Novice i3 Applicants) in order to earn competitive preference priority points, the Department will review its list of previous i3 grantees in scoring this competitive preference priority.

We remind potential applicants that, in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The overall purpose of the i3 program is to expand the implementation of, and investment in, innovative practices that are demonstrated to have an impact on improving student achievement or student growth for high-need students. We have established several performance measures for the i3 Scale-up grants.

Short-term performance measures: (1) The percentage of grantees that reach their annual target number of students as specified in the application; (2) the percentage of programs, practices, or strategies supported by a Scale-up grant with ongoing well-designed and independent evaluations that will provide evidence of their effectiveness at improving student outcomes at scale; (3) the percentage of programs, practices, or strategies supported by a Scale-up grant with ongoing evaluations that are providing high-quality implementation data and performance feedback that allow for periodic assessment of progress toward achieving intended outcomes; and (4) the cost per student actually served by the grant.

Long-term performance measures: (1) The percentage of grantees that reach the targeted number of students specified in the application; (2) the percentage of programs, practices, or strategies supported by a Scale-up grant that implement a completed well-designed, well-implemented and independent evaluation that provides evidence of their effectiveness at improving student outcomes at scale; (3) the percentage of programs, practices, or strategies supported by a Scale-up grant with a completed well-designed, well-implemented and independent evaluation that provides information about the key elements and the approach of the project so as to facilitate replication or testing in other settings; and (4) the cost per student for programs, practices, or strategies that were proven to be effective at improving educational outcomes for students.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

Kelly Terpak, U.S. Department of Education, 400 Maryland Avenue SW., Room 4C107, Washington, DC 20202-5930. Telephone: (202) 453-7122. FAX: (202) 205-5631 or by email: i3@ed.gov.

If you use a TDD or a TTY, call the Federal Relay Service, toll free, at 1-800-877-8339.

VIII. Other Information

Accessible Format: Individuals with disabilities can obtain this document and a copy of the application package in an accessible format (e.g., braille, large print, audiotape, or compact disc) on request to either program contact person listed under Agency Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 27, 2015.
Nadya Chinoy Dabby,
Assistant Deputy Secretary for Innovation and Improvement.

[FR Doc. 2015-13673 Filed 6-4-15; 8:45 am]

BILLING CODE 4000-01-P